DEPARTMENT OF THE INTERIOR

National Park Service

[NPS-WASO-NAGPRA-NPS0037764; PPWOCRADN0-PCU00RP14.R50000]

Notice of Intended Repatriation: University of California, Davis, Davis, CA

AGENCY: National Park Service, Interior.

ACTION: Notice.

SUMMARY: In accordance with the Native American Graves Protection and Repatriation Act (NAGPRA), the University of California, Davis (UC Davis) intends to repatriate certain cultural items that meet the definition of unassociated funerary objects or objects of cultural patrimony and that have a cultural affiliation with the Indian Tribes or Native Hawaiian organizations in this notice.

DATES: Repatriation of the cultural items in this notice may occur on or after May 16, 2024.

ADDRESSES: Megon Noble, NAGPRA Project Manager, University of California, Davis, 412 Mrak Hall, One Shields Avenue, Davis, CA 95616, telephone (530) 752-8501, email mnoble@ucdavis.edu.

SUPPLEMENTARY INFORMATION: This notice is published as part of the National Park Service's administrative responsibilities under NAGPRA. The determinations in this notice are the sole responsibility of UC Davis, and additional information on the determinations in this notice, including the results of consultation, can be found in the summary or related records. The National Park Service is not responsible for the determinations in this notice.

Abstract of Information Available

A total of 149 cultural items have been requested for repatriation. The 46 unassociated funerary objects are 45 lots of debitage and chipped stone (including quartz items), and one mano fragment. In 1981, these cultural items were removed from CA-SAC-408 (Accession 281) during a surface collection and test excavation conducted by DL True, R. Jackson, and J. Offerman.

The 90 unassociated funerary objects are 17 lots of groundstone, 30 lots of flakes, 35 lots of unmodified stone, one lot of bone, and six lots of historic material. One projectile point is currently missing. In 1986, these items were removed from CA-SAC-Cripple Creek (Accession 385) near Citrus Heights, Sacramento County, CA during a test excavation conducted by DL True, C. Slaymaker, and P. Bouey.

The six unassociated funerary objects include four lots of chipped stone and two lots of groundstone. Between 1987 and 1988, these items were removed from CA-SAC-320 (Accession 391) during surface and limited test excavations conducted by DL True, C. Slaymaker, and S. Griset as part of a permit review by the Sacramento County Community Planning and Development Department.

The two unassociated funerary objects include one pestle and one open pestle fragment. Between 1987 and 1988, these items were removed from CA-SAC-406A (Accession 391) during surface and limited test excavations conducted by DL True, C. Slaymaker, and S. Griset as part of a permit review by the Sacramento County Community Planning and Development Department.

The four unassociated funerary objects include four lots of debitage. Between 1987 and 1988, these items were removed from CA-SAC-Folsom Shooting Club (Accession 391) during surface and limited test excavations conducted by DL True, C. Slaymaker, and S. Griset as part of a permit review by the Sacramento County Community Planning and Development Department.

The one object of cultural patrimony includes one handstone/mano. Around 1980, this item was donated to the UC Davis Department of Anthropology Teaching Collection (UCDA). Provenience information is limited to “Sacramento, CA (1980).”

Determinations

The UC Davis has determined that:

• The 148 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The one object of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Wilton Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after May 16, 2024. If competing requests for repatriation are received, the UC Davis must determine the most appropriate requestor prior to repatriation. Requests for joint repatriation of the cultural items are considered a single request and not competing requests. The UC Davis is responsible for sending a copy of this notice to the Indian Tribes and Native Hawaiian organizations identified in this notice and to any other consulting parties.

Authority: Native American Graves Protection and Repatriation Act, 25 U.S.C. 3004 and the implementing regulations, 43 CFR 10.9.

Dated: April 9, 2024.
Melanie O'Brien,
Manager, National NAGPRA Program.

[FR Doc. 2024-08051 Filed 4-15-24; 8:45 am]

BILLING CODE 4312-52-P